DEPARTMENT OF THE INTERIOR

Fish and Wildlife Service

Notice of Intent To Prepare a Comprehensive Conservation Plan and Environmental Assessment for Wolf Island National Wildlife Refuge Located Off the Coast of Darien, GA, in McIntosh County

AGENCY: Fish and Wildlife Service, Interior.

ACTION: Notice of intent.

SUMMARY: The Fish and Wildlife Service, Southeast Region, intends to gather information necessary to prepare a comprehensive conservation plan and environmental assessment for Wolf Island National Wildlife Refuge, pursuant to the National Environmental Policy Act of 1969 and its implementing regulations.

The National Wildlife Refuge System Administration Act of 1966, as amended by the National Wildlife Refuge System Improvement Act of 1997, requires the Service to develop a comprehensive conservation plan for each national wildlife refuge. The purpose is developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: To ensure consideration, written comments must be received no later than December 29, 2006.

ADDRESSES: Address comments, questions, and requests for more information to Jane Griess, Project Leader, Savannah National Wildlife Refuge Complex, 1000 Business Center Drive, Suite 10, Savannah, Georgia 31405.

SUPPLEMENTARY INFORMATION: The comprehensive conservation planning process will consider many elements, including wildlife and habitat management, public recreational activities, and cultural resource protection. Public input to the planning process is essential. Special mailings, newspaper articles, and other media announcements will be used to inform the public and state and local government agencies of meeting dates and opportunities for input throughout the planning process. All comments received from individuals become part of the official public record. Requests for such comments will be handled in accordance with the Freedom of Information Act and the Council on Environmental Quality's NEPA regulations [40 CFR 1506.6(f)].

Wolf Island National Wildlife Refuge is approximately 12 miles off the coast of Darien, Georgia, in McIntosh County, and was established on April 3, 1930, to provide protection and habitat for migratory birds. The barrier island refuge consists of Wolf Island and two smaller islands, Egg and Little Egg. More than 75 percent of the refuge's 5,126 acres are composed of saltwater marsh.

Wolf Island Refuge was designated a National wilderness Area in 1975. In addition to providing protection for migratory birds, it also is a refuge for such threatened and endangered species as the loggerhead sea turtle and the piping plover. Due to its status as a Wilderness Area, no public use facilities are planned for the refuge. Although the refuge's saltwaters are open to a variety of recreational activities, such as fishing and crabbing, its beach, marsh, and upland areas are closed to the public.

FOR FURTHER INFORMATION CONTACT: Jane Griess; Telephone: 912/652-4030, Extension 101; Fax: 912/652-4385; e-mail: jane_griess@fws.gov; or mail (write to Project Leader at address in ADDRESSES section).

Authority: This notice is published under the authority of the National Wildlife Refuge System Improvement Act of 1997, Public Law 105-57.

Dated: September 21, 2006.
Cynthia K. Dohner,
Acting Regional Director.

[FR Doc. 06-8953 Filed 10-27-06; 8:45 am]

BILLING CODE 310-55-M